DEPARTMENT OF COMMERCE

National Oceanic and Atmospheric Administration

RIN 0648-XAO29

Federal Aquatic Nuisance Species Research Risk Analysis Protocol

AGENCY: National Marine Fisheries Service (NMFS), National Oceanic and Atmospheric Administration (NOAA), Commerce.

ACTION: Notice of availability of finalized research protocol.

SUMMARY: The National Oceanic and Atmospheric Administration (NOAA) announces the availability of the finalized Federal Aquatic Nuisance Species Research Risk Analysis Protocol (Protocol), developed by the Research Protocol Committee, a committee of the Aquatic Nuisance Species Task Force (ANSTF).

ADDRESSES: Electronic copies of the finalized Protocol are available on the ANSTF Web site, http://anstaskforce.gov/documents.php. To obtain a hard copy of the Protocol, see Document Availability under SUPPLEMENTARY INFORMATION.

FOR FURTHER INFORMATION CONTACT: Margaret M. (Peg) Brady, Phone: 301-713-0174; e-mail: Peg.Brady@noaa.gov.

SUPPLEMENTARY INFORMATION:

Introduction

The Aquatic Nuisance Species Task Force (ANSTF) is an intergovernmental organization dedicated to preventing and controlling aquatic nuisance species, and implementing the Non-indigenous Aquatic Nuisance Prevention and Control Act. The National Oceanic and Atmospheric Administration and U.S. Fish and Wildlife Service serve as co-chairs of the ANSTF. The ANSTF developed a research protocol as is required by the Non-indigenous Aquatic Nuisance Prevention and Control Act of 1990 (NANPCA, Public Law 101-646, 104 STAT. 4671, 16 U.S.C. 4701-4741), as amended by the National Invasive Species Act, 1996. Section 1202(f)(2) of NANPCA directs the ANSTF to establish a protocol “to ensure that research activities carried out under [NANPCA] do not result in the introduction of aquatic nuisance species to waters of the United States.”

Responsibility for actual use of this Protocol is specified in section (f)(3) of the NANPCA: “The Task Force shall allocate funds authorized under this Act for competitive research grants to study all aspects of aquatic nuisance species, which shall be administered through the National Sea Grant College Program and the Cooperative Fishery and Wildlife Research Units. Grants shall be conditioned to ensure that any recipient of funds follows the protocol established under paragraph (2) of this subsection.”

Throughout this document both the descriptors “non-indigenous” and/or “nuisance” are used when referring to aquatic species that are the target of this risk analysis. Language used in the NANPCA differentiates between a non-indigenous species and a nuisance species, with a “non-indigenous” label being solely based on the historic range of the species, while a “nuisance” designation is based on a species being both non-indigenous and potentially harmful (“threatens the diversity or abundance of native species or the ecological stability of infested waters, or commercial, agricultural, aquacultural or recreational activities dependent on such waters”). The ANSTF Research Committee adopted a precautionary approach by targeting this risk analysis to all aquatic non-indigenous species research, regardless of the “nuisance” designation. The intent of the procedures outlined herein is to minimize to the extent practicable the risk of release and spread of aquatic non-indigenous species into areas they do not yet inhabit, since any non-indigenous species may become a nuisance species. Not only is it often not possible to be sure that a species won't become a nuisance (as defined) in the future, the possession and/or release of non-indigenous species may be illegal under various Federal, State, or local laws, which may or may not differentiate between non-indigenous and nuisance species.

Background

The finalized document (“the Protocol”) will replace the previously established “Protocol for Evaluating Research Proposals Concerning Aquatic Non-indigenous Species,” adopted in draft form in 1992 and finalized and published by the ANSTF in July 1994. The 1994 protocol applies only to research involving aquatic non-indigenous species (ANS) and is designed to reduce the risk that research activities may cause introduction or spread of such aquatic species. Other potential means of introduction, such as bait movement, aquaria disposal, ballast water discharge, movement of recreational boats, movement of fishing gear, and horticultural sales, are not addressed in the 1994 protocol.

In 2008 the ANSTF requested the Research Committee (a Committee of the ANSTF) to evaluate and recommend revisions to the 1994 protocol, as needed. According to the Society for Risk Analysis (SRA, http://www.sra.org), the elements or components of a risk analysis include risk assessment, risk characterization, risk communication, risk management, and policy relating to risk. This revised Protocol incorporates three of those elements—it requires a risk assessment (Part I) and then, if needed, establishment and implementation of a risk management plan (Part II), with the combined results communicated to the funding agency as part of the proposal and funding process. Therefore, this revised Protocol is renamed “Federal Aquatic Nuisance Species Research Risk Analysis Protocol.” The draft was approved by the ANSTF on November 5, 2009. A notice of availability of the draft revised research protocol and request for comments was published in the Federal Register on August 31, 2010 (75 FR 53273). The period of public comment expired on October 15, 2010. During this time period one comment was received. The ANSTF reviewed and considered this comment and determined the statement was not pertinent to the Protocol; thus, further revision of the document was not necessary and the Protocol was accepted to be finalized.

The revised Protocol supplements, but does not replace, other existing Federal guidelines established to control activities with specific major classes of organisms. This document does not eliminate or in any way affect other legal requirements.

The Protocol encourages the incorporation of a Hazard Analysis and Critical Control Point (HACCP) approach for prevention planning within research activities. Information about the use of HACCP is available at http://www.seagrant.umn.edu/ais/haccp. A Web site detailing the application of HACCP to natural resource pathways, plus a link to download a HACCP wizard that helps create HACCP plans, can be found at http://www.haccp-nrm.org.

Document Availability

You may obtain copies of the Protocol by any one of the following methods:

• Internet: http://anstaskforce.gov/documents.php

• Write: Susan Pasko, National Oceanic and Atmospheric Administration. 1315 East West Highway, SSMC 3, Rm. 15531 Silver Spring, MD 20910; Telephone: (301) 713-0174 x 165; E-mail: Susan.Pasko@noaa.gov.

• Mail or hand-delivery: Susan Pasko, National Oceanic and Atmospheric Administration. 1315 East West Highway, SSMC 3, Rm. 15531 Silver Spring, MD 20910.

• Fax: (301) 713-1594.

Dated: November 23, 2010.
Patricia A. Montanio,
Director, Office of Habitat Conservation, National Marine Fisheries Service.

[FR Doc. 2010-30175 Filed 11-29-10; 8:45 am]

BILLING CODE 3510-22-P